DEPARTMENT OF COMMERCE

International Trade Administration

[C-791-810]

Certain Hot-Rolled Carbon Steel Flat Products From South Africa: Notice of Rescission of Countervailing Duty Administrative Review for the Period January 1, 2001, Through December 31, 2001

AGENCY: Import Administration, International Trade Administration, U.S. Department of Commerce.

SUMMARY: In response to a timely request from Bethlehem Steel Corporation, National Steel Corporation, and United States Steel Corporation (petitioners), the Department of Commerce (the Department) initiated an administrative review of the countervailing duty order on certain hot-rolled carbon steel flat products from South Africa, covering the period January 1, 2001, to December 31, 2001. See Initiation of Antidumping and Countervailing Duty Administrative Reviews and Requests for Revocation in Part, 68 FR 3009 (January 22, 2003). Because petitioners have submitted a withdrawal of their request for an administrative review, and there was no request for review from any other interested party, the Department is rescinding this review in accordance with § 351.213(d)(1) of the Department's regulations.

EFFECTIVE DATE: June 5, 2003.

FOR FURTHER INFORMATION CONTACT: Mark Hoadley or Julio Fernandez, AD/CVD Enforcement, Import Administration, International Trade Administration, U.S. Department of Commerce, 14th Street and Constitution Avenue, NW., Washington, DC 20230; telephone: (202) 482-3148 or (202) 482-0961, respectively.

SUPPLEMENTARY INFORMATION:

Background

On December 23, 2002, the Department published a notice of opportunity to request an administrative review of the countervailing duty order on certain hot-rolled carbon steel flat products from South Africa. See Notice of Opportunity to Request Administrative Review of Antidumping or Countervailing Duty Order, Finding, or Suspended Investigation (67 FR 78219). On December 31, 2002, the Department received a timely request from petitioners for an administrative review covering the period from January 1, 2001 through December 31, 2001, in accordance with 19 CFR 351.213(b)(1).

The Department published a notice of initiation of this countervailing duty administrative review on January 22, 2003. See Initiation of Antidumping and Countervailing Duty Administrative Reviews and Requests for Revocation in Part, 68 FR 3009 (January 22, 2003). This review covered two manufacturers/exporters of the subject merchandise, Iscor, Ltd. and Saldanha Steel, Ltd., for the period January 1, 2001 through December 31, 2001. On April 24, 2003, petitioners withdrew their request for review.

In accordance with 19 CFR 351.213(d), the Department will rescind an administrative review, “if a party that requested the review withdraws the request within 90 days of the date of publication of notice of initiation of the requested review.” See 19 CFR 351.213(d)(1). The Department is authorized to extend this deadline if it decides that it is reasonable to do so. Although petitioners submitted their withdrawal request 92 days after the initiation publication date, i.e., after the 90-day period had expired, the Department has decided that it is reasonable to extend the deadline and accept the request. Petitioners were the only parties to request this review, and the review has not progressed beyond a point where it would have been unreasonable to allow petitioners to withdraw their request for review. See Certain In-Shell Raw Pistachios from Iran: Rescission of Antidumping Duty Administrative Review, 68 FR 16764 (April 7, 2003). Additionally, we conclude that this withdrawal does not constitute an “abuse” of our procedures. See Antidumping Duties; Countervailing Duties; Final Rule, 62 FR 27296, 27317 (May 19, 1997). Thus, the Department is rescinding the countervailing duty administrative review on certain hot-rolled carbon steel flat products from South Africa for the period January 1, 2001 through December 31, 2001. The Department will issue appropriate assessment instructions to the United States Bureau of Customs and Border Protection.

This notice serves as a reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

This determination and notice are issued and published in accordance with 19 CFR 351.213(d)(4) and sections 751(a)(1) and 777(i)(1) of the Act.

Dated: May 30, 2003.
Barbara E. Tillman,
Acting Deputy Assistant Secretary for Import Administration, Group III.

[FR Doc. 03-14181 Filed 6-4-03; 8:45 am]

BILLING CODE 3510-DS-P